DEPARTMENT OF HEALTH AND HUMAN SERVICES

National Institutes of Health

National Institute of Biomedical Imaging and Bioengineering Amended; Notice of Meeting

Notice is hereby given of a location change in the meeting of the National Advisory Council for Biomedical Imaging and Bioengineering, May 21, 2019, 8:30 a.m. to May 21, 2019, 3:00 p.m., The William F. Bolger Center, Franklin Building, Classroom 1, 9600 Newbridge Drive, Potomac, MD 20854 which was published in the Federal Register on February 7, 2019, 84FR2557.

The meeting notice is amended to change the location of the meeting from the Franklin Building, Classroom 1 to the Osgood Building, #500 at the William F. Bolger Center. The meeting is partially closed to the public.

Dated: March 25, 2019.
Sylvia L. Neal,
Program Analyst, Office of Federal Advisory Committee Policy.

[FR Doc. 2019-06009 Filed 3-28-19; 8:45 am]

BILLING CODE 4140-01-P